DEPARTMENT OF AGRICULTURE

National Agricultural Statistics Service

Notice of Request for a Renewal of an Information Collection; Fast Track Generic Clearance for the Collection of Qualitative Feedback on Agency Programs

AGENCY: National Agricultural Statistics Service, USDA.

ACTION: Notice and request for comments.

SUMMARY: In accordance with the Paperwork Reduction Act of 1995, this notice announces the intention of the National Agricultural Statistics Service (NASS) to request feedback from the general public on the “Generic Clearance for the Collection of Qualitative Feedback on Agency Programs.” This collection was developed as part of a Federal Government-wide effort to streamline the process for seeking feedback from the public on service delivery. This notice announces our intent to submit this collection to OMB for approval and solicits comments on specific aspects for the proposed information collection.

DATES: Comments on this notice must be received by August 31, 2020 to be assured of consideration.

ADDRESSES: • Email: ombofficer@nass.usda.gov. Include the docket number above in the subject line of the message.

• Efax: (855) 838-6382.

• Mail: Mail any paper, disk, or CD-ROM submissions to: David Hancock, NASS Clearance Officer, U.S. Department of Agriculture, Room 5336, South Building, 1400 Independence Avenue SW, Washington, DC 20250-2024.

• Hand Delivery/Courier: Hand deliver to: David Hancock, NASS Clearance Officer, U.S. Department of Agriculture, Room 5336, South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION: Title: Fast Track Generic Clearance for the Collection of Qualitative Feedback on Agency Programs.

OMB Control Number: 0535-0261.

Type of Request: Intent to seek approval to renew an information collection for a period of three years.

Abstract: The proposed information collection activities provides a means to obtain qualitative customer and stakeholder feedback in an efficient, timely manner, in accordance with the Administration's commitment to improving the quality and timeliness of survey data and its analysis. The qualitative feedback will provide useful insights on perceptions and opinions, but are not rigorous statistical surveys that yield quantitative results that can be generalized to the study population. This feedback will provide insights into customer or stakeholder perceptions, experiences and expectations, provide an early warning of issues with data collection efforts, and focus attention on areas where communication, training or changes in operations might improve NASS surveys and publications. These collections will allow for ongoing, collaborative and actionable communications between the Agency and its customers and stakeholders.

The information collections will target areas such as: Timeliness, usefulness of summarized information, perceptions of products or services, accuracy of information, efficiency and ease of reporting data, and the ease and understandability of data collection instruments. Responses will be assessed to plan and inform efforts to improve or maintain the quality of data collected and reported to the public. If this information is not collected, vital feedback from customers and stakeholders on the Agency's services will be unavailable.

The Agency will only submit a collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with NASS surveys or data, or may reasonably be expected to have experience with the surveys or data in the near future;

• Information gathered will be used only internally for improving data collection efforts, products and services, and the summarization and publication of data, and is not intended for release outside of the agency;

• Information gathered will not be used for the purpose of substantially informing influential policy decisions; and

• Information gathered will yield qualitative information; the collections will not be designed or expected to yield statistically reliable results or used as though the results are generalizable to the study population.

This generic clearance for qualitative information will not be used for quantitative information collections that are designed to yield reliably actionable results, such as monitoring trends over time or documenting program performance. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

Respondents: Farmers, ranchers, agri-businesses and data users.

Estimated Number of Respondents: 120,000.

Below we provide projected average estimates for the next three years:

Average Number of Responses per Respondent: 1.

Total Responses: 120,000 (30,000 completed responses and 90,000 refusals).

Frequency of Responses: Once per request.

Average Minutes per Response: 5 to 20 minutes, depending on the survey.

Total Estimated Burden Hours: 8,375.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, June 18, 2020.
Kevin L. Barnes,
Associate Administrator.

[FR Doc. 2020-13989 Filed 6-29-20; 8:45 am]

BILLING CODE 3410-20-P